Title 3—

The President

Proclamation 9716 of March 30, 2018

National Fair Housing Month, 2018

By the President of the United States of America

A Proclamation

During April, America reaffirms its commitment to ending housing discrimination by celebrating National Fair Housing Month. This year, we mark a particularly important milestone in this effort. Fifty years ago this April 11—just 7 days after the assassination of Dr. Martin Luther King, Jr.—President Lyndon Johnson signed the Civil Rights Act of 1968 into law. The Fair Housing Act, which prohibits discrimination in the sale, rental, and financing of housing based on race, color, religion, or national origin, is Title VIII of that law.

Over the last 50 years, our Nation has made great strides toward ensuring Americans have access to fair and affordable housing free from discrimination. In addition to enforcement of the prohibitions in the original Fair Housing Act, the Congress has twice amended the law to expand and enhance its protections. In 1974, the Congress acted to prohibit housing discrimination based on sex, and in 1988, the Congress extended the law's protections to persons living with disabilities and to families with children. These actions have helped create a more fair and just market for housing throughout our Nation.

My Administration has continued to fight for the American people and for equal access to opportunity in America. That is why we are exploring and developing evidence-based reforms to enhance the development of affordable housing options, free from discrimination, that can alleviate poverty and promote opportunity. My Administration intends to deliver on the promise outlined by the Fair Housing Act, by ending prejudice and unlawful discriminatory practices in the sale, lease, and financing of housing, expanding the availability of affordable housing, promoting sustainable homeownership opportunities, encouraging economic mobility, and creating more vibrant communities.

NOW, THEREFORE, I, DONALD J. TRUMP, President of the United States of America, by virtue of the authority vested in me by the Constitution and the laws of the United States, and in recognition of the 50th anniversary of the Fair Housing Act, do hereby proclaim April 2018 as National Fair Housing Month. I urge all Americans to learn more about their rights and responsibilities under the Fair Housing Act and reaffirm their commitment to making homeownership within reach, no matter one's background.

IN WITNESS WHEREOF, I have hereunto set my hand this thirtieth day of March, in the year of our Lord two thousand eighteen, and of the Independence of the United States of America the two hundred and forty-second.

[FR Doc. 2018-07025

Filed 4-3-18; 11:15 am]

Billing code 3295-F8-P